DEPARTMENT OF DEFENSE

Defense Acquisition Regulation System

[Docket Number 2015-0007]

Information Collection Requirement; Defense Federal Acquisition Regulation Supplement; DFARS Part 245, Government Property

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on whether the proposed collection of information is necessary for the proper performance of the functions of DoD, including whether the information will have practical utility; the accuracy of the estimate of the burden of the proposed information collection; ways to enhance the quality, utility, and clarity of the information to be collected; and to minimize the burden of the information collection on respondents, including the use of automated collection techniques or other forms of information technology. The Office of Management and Budget (OMB) has approved this information collection under Control Number 0704-0246 for use through December 31, 2014. DoD is proposing that OMB extend its approval for use for three additional years.

DATES: DoD will consider all comments received by May 15, 2015.

ADDRESSES: You may submit comments, identified by OMB Control Number 0704-0246, using any of the following methods:

○ Federal eRulemaking Portal: http://www.regulations.gov. Follow the instructions for submitting comments.

○ Email: osd.dfars@mail.mil. Include OMB Control Number 0704-0246 in the subject line of the message.

○ Fax: (571) 372-6094.

○ Mail: Defense Acquisition Regulations System, Attn: Mr. Mark Gomersall, OUSD(AT&L)DPAP(DARS), Room 3B941, 3060 Defense Pentagon, Washington, DC 20301-3060.

Comments received generally will be posted without change to http://www.regulations.gov, including any personal information provided.

FOR FURTHER INFORMATION CONTACT: Mr. Mark Gomersall, at (571) 372-6099. The information collection requirements addressed in this notice are available on the World Wide Web at: http://www.acq.osd.mil/dpap/dars/dfarspgi/current/index.htm. Paper copies are available from Mr. Mark Gomersall, OUSD(AT&L)DPAP(DARS), Room 3B941, 3060 Defense Pentagon, Washington, DC 20301-3060.

SUPPLEMENTARY INFORMATION: Title, Associated Forms, and OMB Number: Defense Federal Acquisition Regulation Supplement (DFARS) part 245, Government Property, and the following related clauses and forms: DFARS 252.245-7003, Contractor Property Management System Administration; 252.245-7004, Reporting, Reutilization, and Disposal; DD Form 1348-1A, DoD Single Line item Release/Receipt Document; DD Form 1639, Disposal Determination/Approval; OMB Control Number 0704-0246.

Needs and Uses: This requirement provides for the collection of information related to providing Government property to contractors; contractor use and management of Government property; and reporting, redistribution, and disposal of property.

a. DFARS 245.302(1)(i): DFARS 245.302 concerns contracts with foreign governments or international organizations. Paragraph (1)(i) requires contractors to request and obtain contracting officer approval before using Government property on work for foreign governments and international organizations.

b. DFARS 245.604-3(b) and (d): DFARS 245.604-3 concerns the sale of surplus Government property. Under paragraph (b), a contractor may be directed by the plant clearance officer to issue informal invitations for bids. Under paragraph (d), a contractor may be authorized by the plant clearance officer to purchase or retain Government property at less than cost if the plant clearance officer determines this method is essential for expeditious plant clearance.

c. DFARS 252.245-7003: This clause entitled, Contractor Property Management System Administration, and DFARS 245.105, Contractor's Property Management System Compliance, address the requirement for contractors to respond in writing to initial and final determinations from the administrative contracting officer that identifies deficiencies in the contractor's property management system. The burden for this reporting requirement was previously approved under OMB 0704-0480 and is being incorporated into 0704-0246 in order to consolidate all DFARS part 245 requirements under one OMB clearance.

d. DD Form 1348-1A, DoD Single Line Item Release/Receipt Document, is prescribed at DFARS 245.7001-3 and the form is used when authorized by the plant clearance officer.

e. DD Form 1639, Scrap Warranty, is prescribed in the clause at DFARS 252.245-7004, Reporting, Reutilization, and Disposal. When scrap is sold by the contractor, after Government approval, the purchaser of the scrap material(s) may be required to certify, by signature on the DD Form 1639, that (i) the purchased material will be used only as scrap and (ii), if sold by the purchaser, the purchaser will obtain an identical warranty from the individual buying the scrap from the initial purchaser. The warranty contained in the DD Form 1639 expires by its terms five years from the date of the sale.

Affected Public: Businesses or for-profit entities and not-for-profit institutions.

Type of Request: Extension.

Number of Respondents: 1,840.

Responses per Respondent: 14.9, approximately.

Annual Responses: 27,404.

Average Burden per Response: 1 hour, approximately.

Annual Burden Hours: 28,283.

Reporting Frequency: On occasion.

Summary of Information Collection: DFARS part 245 prescribes policies and procedures for providing Government property to contractors; contractors' use and management of Government property; and reporting, redistributing, and disposing of inventory. The information collected is used by contractors, property administrators, and contracting officers.

Manuel Quinones,
Editor, Defense Acquisition Regulations System.

[FR Doc. 2015-05923 Filed 3-13-15; 8:45 am]

BILLING CODE 5001-06-P